DEPARTMENT OF ENERGY

Federal Energy Regulatory Commission

Combined Notice of Filings #1

Take notice that the Commission received the following electric corporate filings:

Docket Numbers: EC18-132-001.

Applicants: Linde Energy Services, Inc.

Description: Notice of Change in Circumstances of Linde Energy Services, Inc.

Filed Date: 11/9/18.

Accession Number: 20181109-5230.

Comments Due: 5 p.m. ET 11/30/18.

Docket Numbers: EC18-164-000.

Applicants: Wabash Valley Power Association, Inc.

Description: Supplement to September 27, 2018 Application for Authorization Under Section 203 of the Federal Power Act, et. al. of Wabash Valley Power Association, Inc.

Filed Date: 11/13/18.

Accession Number: 20181113-5306.

Comments Due: 5 p.m. ET 11/27/18.

Take notice that the Commission received the following electric rate filings:

Docket Numbers: ER12-1946-011; ER10-1333-011; ER13-2387-005; ER15-190-008; ER17-543-005; ER18-1343-002.

Applicants: Duke Energy Florida, LLC, Duke Energy Beckjord, LLC, Duke Energy Commercial Enterprises, Inc., Duke Energy Renewable Services, LLC, Duke Energy SAM, LLC, Carolina Solar Power, LLC.

Description: Notice of Change in Status of the Duke MBR Sellers.

Filed Date: 11/13/18.

Accession Number: 20181113-5326.

Comments Due: 5 p.m. ET 12/4/18.

Docket Numbers: ER17-1442-002.

Applicants: Axiall, LLC.

Description: Second Supplement to June 28, 2018 Updated Market Power Analysis for Central Region of Axiall, LLC.

Filed Date: 11/13/18.

Accession Number: 20181113-5316.

Comments Due: 5 p.m. ET 12/4/18.

Docket Numbers: ER19-333-000.

Applicants: PJM Interconnection, L.L.C.

Description: § 205(d) Rate Filing: Amendment to WMPA, SA No. 4737; Queue No. AC1-025 (consent) to be effective 5/31/2017.

Filed Date: 11/13/18.

Accession Number: 20181113-5302.

Comments Due: 5 p.m. ET 12/4/18.

Docket Numbers: ER19-334-000.

Applicants: Southwestern Electric Power Company.

Description: § 205(d) Rate Filing: Revised and Restated Prescott PSA to be effective 8/1/2018.

Filed Date: 11/13/18.

Accession Number: 20181113-5304.

Comments Due: 5 p.m. ET 12/4/18.

Docket Numbers: ER19-335-000.

Applicants: ISO New England Inc., New England Power Pool Participants Committee.

Description: § 205(d) Rate Filing: ISO-NE and NEPOOL; Consolidation of FCM Parameter Review to be effective 1/14/2019.

Filed Date: 11/14/18.

Accession Number: 20181114-5036.

Comments Due: 5 p.m. ET 12/5/18.

Docket Numbers: ER19-336-000.

Applicants: Southwest Power Pool, Inc.

Description: § 205(d) Rate Filing: 1977R12 Nemaha-Marshall Electric Cooperative NITSA NOA to be effective 6/1/2018.

Filed Date: 11/14/18.

Accession Number: 20181114-5041.

Comments Due: 5 p.m. ET 12/5/18.

Docket Numbers: ER19-337-000.

Applicants: NorthWestern Corporation.

Description: Tariff Cancellation: Notice of Cancellation: SA 782, Reimbursement Agreement with the City of Bozeman to be effective 11/15/2018.

Filed Date: 11/14/18.

Accession Number: 20181114-5043.

Comments Due: 5 p.m. ET 12/5/18.

Docket Numbers: ER19-338-000.

Applicants: Mid-Atlantic Interstate Transmission, LLC, PJM Interconnection, L.L.C.

Description: § 205(d) Rate Filing: MAIT submits Interconnection Agreement SA No. 4562 to be effective 10/26/2018.

Filed Date: 11/14/18.

Accession Number: 20181114-5060.

Comments Due: 5 p.m. ET 12/5/18.

Docket Numbers: ER19-339-000.

Applicants: Midcontinent Independent System Operator, Inc.

Description: § 205(d) Rate Filing: 2018-11-14_SA 3204 Pine River Wind-Wolverine Power FCA (J589) to be effective 10/30/2018.

Filed Date: 11/14/18.

Accession Number: 20181114-5114.

Comments Due: 5 p.m. ET 12/5/18.

Docket Numbers: ER19-340-000.

Applicants: PacifiCorp.

Description: § 205(d) Rate Filing: LVE Const Agmt for Threemile Knoll-Hooper Springs to be effective 1/14/2019.

Filed Date: 11/14/18.

Accession Number: 20181114-5126.

Comments Due: 5 p.m. ET 12/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2018.
Nathaniel J. Davis, Sr.,
Deputy Secretary.

[FR Doc. 2018-25270 Filed 11-19-18; 8:45 am]

BILLING CODE 6717-01-P